DEPARTMENT OF THE INTERIOR

Bureau of Land Management

[NM-030-1310-DB]

Draft Resource Management Plan Amendment (RMPA) and Environmental Impact Statement (EIS) for Federal Fluid Minerals Leasing and Development in Sierra and Otero Counties, New Mexico

AGENCY: Bureau of Land Management (BLM), Interior.

ACTION: Notice of Extension of Public Comment Period and Additional Public Hearings.

SUMMARY: The BLM announces the extension of the public comment period on the Draft RMPA and EIS for Federal Fluid Minerals Leasing and Development in Sierra and Otero Counties. Pursuant to 102(2)(c) of the National Environmental Policy Act (NEPA) of 1969, Council on Environmental Quality (CEQ) regulations (40 CFR 1500-1508), and the Federal Land Policy and Management Act (FLPMA) of 1976, the BLM Las Cruces Field Office (through Dames and Moore, Inc., a qualified consultant) has prepared a Draft RMPA/EIS. The RMPA/EIS addresses Federal fluid minerals (oil, gas, and geothermal) leasing and subsequent activities (e.g., exploration, development, and/or production) in Sierra and Otero Counties, New Mexico. The 60-day extension of the public comment period was granted after BLM review of the reasons for the request. The 60-day extension starts immediately after the end of the 90-day public comment period. The 90-day public comment period ends February 20, 2001. The 60-day extension of the public comment period starts February 21, 2001 and ends April 23, 2001.

DATES: Written comments on the Draft RMPA/EIS must be postmarked on or before April 23, 2001. Public hearings will be held at the times and places listed under SUPPLEMENTARY INFORMATION.

ADDRESSES: Written comments should be sent to: Tom Phillips, RMPA/EIS Team Leader, BLM, Las Cruces Field Office, 1800 Marquess, Las Cruces, NM 88005.

FOR FURTHER INFORMATION CONTACT: Tom Phillips, RMPA/EIS Team Leader, (505) 525-4377.

SUPPLEMENTARY INFORMATION: Public hearings will be held at the following times and locations.

Date | Time | City | Location
April 3, 2001 | 7:00 p.m. | Roswell, NM | Sally Port Inn, 2000 N. Main St.
April 4, 2001 | 7:00 p.m. | Alamogordo, NM | County Commission Chambers, 1000 New York Ave.
April 5, 2001 | 7:00 p.m. | Truth or Consequences, NM | County Commission Chambers, 100 N. Date St.

Both oral and written comments may be given at the hearings. Written comments may also be submitted to the BLM, Las Cruces Field Office, 1800 Marquess, Las Cruces, NM 88005 on or before April 23, 2001. This date reflects an agreed upon 60-day extension to the public comment period.

A time limit for oral testimony at the hearings will be established by the presiding hearings officer, based on the number of people wishing to make comments at each hearing. Written text of prepared comments may be filed at the hearing whether or not the speaker has been able to complete the oral delivery in the allotted time.

All oral and written comments on the adequacy of the Draft RMPA/EIS will receive consideration in the Proposed RMPA/Final EIS.

Copies of the Draft RMPA/EIS have been distributed to a mailing list of identified interested parties. Single copies of the Draft RMPA/EIS may be obtained from the BLM Las Cruces Field Office, 1800 Marquess, Las Cruces, New Mexico. Public reading copies are available for review at public and university libraries in Las Cruces, Alamogordo, Truth or Consequences, Roswell, and Santa Fe, New Mexico and El Paso, Texas.

The RMPA amends the 1986 Resource Management Plan (RMP) for the White Sands Resource Area. The objective of the RMPA is to determine (1) which lands overlying Federal fluid minerals are suitable and available for leasing and subsequent development and (2) how those leased lands will be managed. The EIS identifies the potential impacts that alternative plans for fluid minerals leasing and subsequent activities could have on the environment and identifies appropriate measures to mitigate those impacts.

Dated: January 19, 2001.
Leonard T. Brooks,
Acting Field Manager, Las Cruces.

[FR Doc. 01-2299 Filed 1-24-01; 8:45 am]

BILLING CODE 4310--VC-M